SMALL BUSINESS ADMINISTRATION

DEPARTMENT OF COMMERCE

OFFICE OF MANAGEMENT AND BUDGET

Notification of a Public Meeting and Mailbox on the Presidential Memorandum on Federal Small Business Contracting

AGENCY: Small Business Administration, Department of Commerce, Office of Management and Budget.

ACTION: Notice of a public meeting and request for comments.

SUMMARY: On April 26, 2010, President Obama established an Interagency Task Force to develop proposals and recommendations for enhancing the use of small businesses in Federal contracting, including businesses owned by women, minorities, socially and economically disadvantaged individuals, and service-disabled veterans of our Armed Forces. The Memorandum establishing the Task Force is available at: http://www.whitehouse.gov/the-press-office/presidential-memorandum-interagency-task-force-federal-contracting-opportunities-sm.

In furtherance of the President's Memorandum, the Small Business Administration (SBA), the Department of Commerce (DOC), and the Office of Management and Budget (OMB), who serve as co-chairs of the Task Force, invite interested parties from both the public and private sectors to offer their views on the challenges small businesses face in pursuing federal contracts, on best practices for overcoming these challenges and increasing small business participation in the Federal marketplace. Comments are especially encouraged on: (1) Removing barriers to small business participation; (2) using innovative strategies and technologies to increase opportunities for small business contractors; and (3) identifying successful agency and private sector outreach practices for matching small businesses with contracting and subcontracting opportunities.

Interested parties may offer oral comments at a public meeting to be held on June 28, 2010. Parties are also encouraged to provide written comments directly to SB_TaskForce_Comment@sba.gov by June 30. Please put “Comment” in the subject line of the e-mail.

Public Meeting

Dates and Address: A public meeting will be conducted on June 28, 2010 at 1 p.m. e.t. and ending no later than 4 p.m. e.t. The meeting will be held in the auditorium of the Department of Commerce. The auditorium is located off the main lobby of the Department of Commerce building at 1401 Constitution Avenue, NW., Washington, DC 20230.

Procedures for the public meeting: The public is asked to pre-register by 5 p.m. e.t. on June 21, 2010, due to security and seating limitations. Registration is on a first-come first-served basis and space is limited. To pre-register, please send an e-mail to SB_TaskForce_Comment@sba.gov with your name, organization or small business that you represent, along with contact information and the topics that you are interested in (see topics below). Please put “Registration” in the subject line of the e-mail. Registration on June 28, 2010 at the meeting location will begin at 12 p.m. e.t. on June 28, 2010 and the meeting will start at 1 p.m. e.t.

Public Comments: The purpose of the meeting is to encourage public comment on the issues highlighted in the President's Memorandum and related matters of interest to the small business community. A list of topics and questions are provided at the end of this notice. Parties wishing to make oral or written comment are especially encouraged to provide comment on these issues for the Task Force's consideration.

Agenda: An agenda will be posted at http://www.sba.gov/aboutsba/sbaprograms/gc/index.html by no later than June 16, 2010 with additional details on the structure of the meeting. The meeting may include plenary sessions and/or break-out sessions that focus on individual topics, such as those described at the end of this notice. Therefore, parties may be asked to focus their oral comments on the topic of greatest interest to them.

Written Comments to Small Business Task Force Mailbox: In lieu of, or in addition to, participating in the public meeting, interested parties may submit written comments to SB_TaskForce_Comment@sba.gov by June 30, 2010. Please put “comment” in the subject line. Because the Task Force must prepare recommendations before the end of August, interested parties wishing to have their comments considered in connection with this process must submit their comments by 5 p.m. e.t. on June 30, 2010. Comments received after this date, but before the Task Force completes its work, will be considered in follow-up implementation efforts, as appropriate.

Meeting Accommodations: The public meeting will be physically accessible to people with disabilities. Request for sign language interpretation or other auxiliary aids should be directed to SB_TaskForce_Comment@sba.gov by June 21, 2010. Please put “Accommodations” in the subject line.

FOR FURTHER INFORMATION CONTACT: For clarification of the subject matter related to the memorandum: e-mail SB_TaskForce_Comment@sba.gov. Please put “Question” in the subject line.

SUPPLEMENTARY INFORMATION: The President's April 26, 2010 Memorandum emphasizes the Administration's commitment to tapping the talents and skills of small businesses, the engine of our Nation's economy, and ensuring that they have a fair chance to participate in Federal contracting opportunities. The Memorandum establishes an interagency Small Business Task Force to identify best demonstrated practices for removing barriers to such participation and taking greater and better advantage of the creativity, innovation, and technical expertise of the small business community, including firms owned and controlled by women, minorities, socially and economically disadvantaged individuals, service-disabled veterans of our Armed Forces, and firms located in Historically Underutilized Business Zones. Section 3 of the Memorandum charges the Task Force with developing proposals and recommendations for, in primary part:

(i) Using innovative strategies, such as teaming, to increase opportunities for small business contractors and utilizing and expanding mentorship programs, such as the 8(a) mentor-protégé program;

(ii) removing barriers to participation by small businesses in the Federal marketplace by unbundling large projects, improving training of Federal acquisition officials with respect to strategies for increasing small business contracting opportunities, and utilizing new technologies to enhance the effectiveness and efficiency of Federal program managers, acquisition officials, and the Directors of Offices of Small Business Programs and Offices of Small and Disadvantaged Business Utilization or equivalent, their managers, and procurement center representatives in identifying and providing access to these opportunities; and

(iii) expanding outreach strategies to match small businesses, including firms owned and controlled by women, minorities, socially and economically disadvantaged individuals, and service-disabled veterans of our Armed Forces, and firms located in Historically Underutilized Business Zones with contracting and subcontracting opportunities.

The Task Force welcomes public comments on challenges and opportunities related to small business contracting and seeks public input, in particular, on the issues and questions described below:

Teaming, mentor-protégé programs, and subcontracting. What steps can be taken to increase interest in and participation through use of: (a) Teaming arrangements (e.g., additional guidelines for structuring teams and planning acquisitions to encourage their use, clarification of affiliation rules) and (b) mentor-protégé programs (e.g., government-wide guidelines). How can subcontracting practices, such as tracking and evaluation of subcontracting plans, be improved? How can prime contractors be more effectively held responsible for their subcontracting plans?

Set-asides and bundling. What aspects, if any, of the rules governing set-asides should be changed? What further guidance might be helpful? What strategies best mitigate the effects of contract bundling? Are there specific examples that might be shared as success stories or models for agencies to follow in mitigating contract bundling?

Training, outreach, and technology. What types of training would improve small businesses' ability to participate in the Federal marketplace and what are the best ways to deliver this training to the small business community? What Federal organizations do the best job in their small business outreach strategies? What specific practices do they employ that are most helpful? What technology systems and applications are most helpful to small businesses in finding contracting opportunities? What improvements can be made to existing technologies and what new applications might be considered to make doing business with the Federal government easier and more attractive?

Workforce training: What is the best way to train individuals in the procurement process? How can we ensure they have the skills needed to serve small businesses?

Joseph Jordan,
Associate Administrator, Small Business Administration.

[FR Doc. 2010-14144 Filed 6-11-10; 8:45 am]

BILLING CODE 8025-01-P